DEPARTMENT OF HEALTH AND HUMAN SERVICES

National Institutes of Health

National Library of Medicine; Notice of Closed Meeting

Pursuant to section 10(d) of the Federal Advisory Committee At, as amended (5 U.S.C. Appendix 2), notice is hereby given of the following meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasions of personal privacy.

Name of Committee: Biomedical Library and Informatics Review Committee.

Date: June 9-10, 2005.

Time: June 9, 2005, 8 a.m. to 6 p.m.

Agenda: To review and evaluate grant applications.

Place: National Library of Medicine, Building 38, Second Floor, Board Room, 8600 Rockville Pike, Bethesda, MD 20892.

Time: June 10, 2005, 8 a.m. to 12:30 p.m.

Agenda: To review and evaluate grant applications.

Place: National Library of Medicine, Building 38, Second Floor, Board Room, 8600 Rockville Pike, Bethesda, MD 20892.

Contact Person: Hua-Chuan Sim, MD, Health Science Administrator, National Library of Medicine, Extramural Programs, 6705 Rockledge Drive, Suite 301, Bethesda, MD 20892.

(Catalogue of Federal Domestic Assistance Program Nos. 93.879, Medical Library Assistance, National Institutes of Health, HHS)

Dated: April 12, 2005.
LaVerne Y. Stringfield,
Director, Office of Federal Advisory Committee Policy.

[FR Doc. 05-7871 Filed 4-19-05; 8:45 am]

BILLING CODE 4140-01-M